DEPARTMENT OF STATE

[Public Notice: 11647]

National Action Plan on Responsible Business Conduct: Notice of Opportunity To Submit Written Comments

SUMMARY: On June 16, 2021, Secretary of State Antony Blinken announced on behalf of the Biden-Harris Administration that the Department will soon begin updating and revitalizing the United States' National Action Plan on Responsible Business Conduct (NAP RBC) for U.S. businesses operating and investing abroad. This notice provides background and welcomes written comments concerning this initiative for U.S. Government agencies to take into account in developing the updated NAP RBC. Comments may concern issues addressed in the prior (2016) NAP RBC or other issues suggested as priorities.

DATES: Comments must be received May 31, 2022. Logistics for submitting comments are described below.

ADDRESSES: You may submit comments by either of the following methods:

• Electronic Submission: Submit all electronic public comments via the Federal eRulemaking Portal.

1. Go to www.regulations.gov/#DOS-2022-0002.

2. Click the “Comment Now!” icon and complete the required fields; and

3. Enter or attach your comments.

• Mail: Submit written comments to: ATTN: RBC-NAP, U.S. Department of State, Washington, DC 20520, 2201 C St. NW, Washington, DC 20520, Office of Investment Affairs (EB/IFD/OIA), Room 4669.

Instructions: Comments sent by any other method, to any other address or individual, or received after the end of the comment period, may not be considered. All comments received are a part of the public record and will generally be posted for public viewing on www.regulations.gov without change. All personal identifying information (e.g., name, address, etc.), confidential business information, or otherwise sensitive information submitted voluntarily by the sender will be publicly accessible. We will accept anonymous comments (enter “N/A” in the required fields if you wish to remain anonymous).

SUPPLEMENTARY INFORMATION: The Administration is updating the NAP RBC to show how the U.S. Government encourages businesses to achieve high standards of responsible business conduct and champions U.S. businesses that demonstrate best practices in that regard. It will also highlight what the U.S. Government is doing, including with partners, to encourage responsible business conduct by U.S. businesses operating and investing abroad.

The Department of State is leading the update of the NAP RBC in coordination with the White House and other federal agencies. The process will involve U.S. private sector, civil society, and workers' organizations, and will serve to promote RBC by U.S. businesses operating and investing abroad. The last National Action Plan—the U.S. Government's first—was published on December 16, 2016. (See 2016 National Action Plan on Responsible Business Conduct here: https://2009-2017.state.gov/e/eb/eppd/csr/naprbc/265706.htm).

RBC is a broad concept based on growing evidence that businesses can perform well while doing good, and that governments should create and facilitate the conditions for this to take place. The principles underlying this concept are encompassed in the UN Guiding Principles on Business and Human Rights and the OECD Guidelines for Multinational Enterprises. They place importance on three aspects of the business-society relationship:

• Emphasizing and accentuating the positive contributions businesses can make to economic, environmental, and social progress.

• Committing to robust due diligence efforts, including identifying and mitigating adverse impacts of business conduct, and remedying abuses where they occur.

• Ensuring businesses are aware of and complying with legal obligations within their supply chains both at home and overseas.

We are updating the NAP in light of the U.S. Government's commitment to promoting fair play, the rule of law, and high standards for global commerce in line with democratic values and responsible business conduct. This includes supporting a foreign policy that benefits the middle class by ensuring workers' rights and a level playing field for American workers; protecting the environment; combating the climate crisis; promoting rights-respecting technology deployment; and helping U.S. businesses to be global leaders in promoting respect for human rights and responsible business conduct in the communities where they operate.

The revitalized NAP will build upon the previous framework. We are committed to coordinating and advancing policies that promote responsible business conduct by U.S. businesses operating and investing abroad, and work with all stakeholders to reach our joint goals.

Further information, including Frequently Asked Questions, is available on the following website: https://www.state.gov/responsible-business-conduct-national-action-plan/.

For questions concerning this notice, contact the State Department's NAP RBC team at RBCNAP@state.gov.

(Authority: 22 U.S.C. 2656)

Zachary A. Parker,
Director, Office of Directives Management, U.S. Department of State.

[FR Doc. 2022-04178 Filed 2-25-22; 8:45 am]

BILLING CODE 4710-AE-P